DEPARTMENT OF AGRICULTURE

Forest Service

Oregon Coast Provincial Advisory Committee Meeting

AGENCY: Forest Service, USDA.

ACTION: Notice of meeting.

SUMMARY: The Oregon Coast Provincial Advisory Committee (PAC) will meet on July 20, 2000, at the Bureau of Land Management, 1717 Fabry Road SE, Salem, Oregon. The meeting will begin at 9 a.m. and end at 4 p.m. Agenda items to be covered include (1) Information sharing among PAC members; (2) BLM/OHV strategy; (3) Pacific Coast Initiative; (4) Willamette Restoration Initiative; and (5) Coast Range Association long rotation forestry. Two fifteen-minute open public forums are scheduled at 11:30 a.m. and 3:45 p.m. Interested citizens are encouraged to attend. The committee welcomes the public's written comments on committee business at any time.

FOR FURTHER INFORMATION CONTACT: Joni Quarnstrom, Public Affairs Specialist, Siuslaw National Forest, 541-750-7075, or write to the Forest Supervisor, Siuslaw National Forest, P.O. Box 1148, Corvallis, Oregon 97339.

Dated: June 12, 2000.
Gloria D. Brown,
Forest Supervisor.

[FR Doc. 00-15803 Filed 6-21-00; 8:45 am]

BILLING CODE 3410-11-M